DEPARTMENT OF ENERGY

Federal Energy Regulatory Commission

[Project No. 14427-000]

Go Green Go Hydro LLC; Notice of Preliminary Permit Application Accepted for Filing and Soliciting Comments, Motions To Intervene, and Competing Applications

On June 20, 2012, Go Green Go Hydro LLC (Go Green or applicant) filed an application for a preliminary permit, pursuant to section 4(f) of the Federal Power Act (FPA), proposing to study the feasibility of the Black Lassic and Shanty Creeks Hydroelectric Water Power Project (Black Lassic Project or project) to be located on Black Lassic, South Shanty, and Shanty Creeks within the Six Rivers National Forest, near the city of Dinsmore, Trinity County, California. The sole purpose of a preliminary permit, if issued, is to grant the permit holder priority to file a license application during the permit term. A preliminary permit does not authorize the permit holder to perform any land-disturbing activities or otherwise enter upon lands or waters owned by others without the owners' express permission.

The proposed project would consist of the following: (1) Three 5-foot-high, 25-30-foot-long diversion structures with gravity uncontrolled spillways; (2) a 9,000-foot-long penstock; (3) a 30-by-30-foot powerhouse containing a two-nozzle Pelton wheel coupled to a synchronous generator with a capacity of 2,800 kilowatts; (4) a 6-foot-wide by 120-foot-long tailrace; and (5) a 24,440-foot-long, 12-kilovolt transmission line. The proposed project would have an average annual generation of 5,000 megawatt-hours.

Applicant Contact: Mr. David G. DeMera, Go Green Go Hydro LLC, 18300 Morgan Valley Road, Lower Lake, CA 95457, (707) 953-6400.

FERC Contact: Shana Murray, shana.murray@ferc.gov, (202) 502-8333.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14427 in the docket number field to access the document. For assistance, contact FERC Online Support.

Dated: September 24, 2012.
Kimberly D. Bose,
Secretary.

[FR Doc. 2012-23938 Filed 9-27-12; 8:45 am]

BILLING CODE 6717-01-P